DEPARTMENT OF ENERGY

Federal Energy Regulatory Commission

Combined Notice of Filings

Take notice that the Commission has received the following Natural Gas Pipeline Rate and Refund Report filings:

Filings Instituting Proceedings

Docket Numbers: RP17-1086-000.

Applicants: Alliance Pipeline L.P.

Description: § 4(d) Rate Filing: Negotiated Rate Filing November 2017 to be effective 11/1/2017.

Filed Date: 9/27/17.

Accession Number: 20170927-5046.

Comments Due: 5 p.m. ET 10/10/17.

Docket Numbers: RP17-1087-000.

Applicants: Iroquois Gas Transmission System, L.P.

Description: § 4(d) Rate Filing: 092717 Negotiated Rates—Spark Energy Gas, LLC R-3045-22 to be effective 11/1/2017.

Filed Date: 9/27/17.

Accession Number: 20170927-5058.

Comments Due: 5 p.m. ET 10/10/17.

Docket Numbers: RP17-1088-000.

Applicants: Tennessee Gas Pipeline Company, L.L.C.

Description: § 4(d) Rate Filing: Volume No. 2—Orion Project to be effective 11/1/2017.

Filed Date: 9/27/17.

Accession Number: 20170927-5076.

Comments Due: 5 p.m. ET 10/10/17.

Docket Numbers: RP17-1089-000.

Applicants: Tennessee Gas Pipeline Company, L.L.C.

Description: § 4(d) Rate Filing: Orion Project—Recourse Rate Filing to be effective 11/1/2017.

Filed Date: 9/27/17.

Accession Number: 20170927-5079.

Comments Due: 5 p.m. ET 10/10/17.

Docket Numbers: RP17-1090-000.

Applicants: Gulf South Pipeline Company, LP.

Description: § 4(d) Rate Filing: Amendments to Neg Rate Agmts (ExGen 43197-7 and 43198-8) to be effective 9/28/2017.

Filed Date: 9/27/17.

Accession Number: 20170927-5093.

Comments Due: 5 p.m. ET 10/10/17.

Docket Numbers: RP17-1091-000.

Applicants: Northern Natural Gas Company.

Description: § 4(d) Rate Filing: 20170927 IDD Enhancement to be effective 11/1/2017.

Filed Date: 9/27/17.

Accession Number: 20170927-5106.

Comments Due: 5 p.m. ET 10/10/17.

Docket Numbers: RP17-1092-000.

Applicants: Algonquin Gas Transmission, LLC.

Description: § 4(d) Rate Filing: W Roxbury Lateral—Revised NRA eff 11-1-2017 to be effective 11/1/2017.

Filed Date: 9/27/17.

Accession Number: 20170927-5116.

Comments Due: 5 p.m. ET 10/10/17.

Docket Numbers: RP17-1093-000.

Applicants: El Paso Natural Gas Company, L.L.C.

Description: § 4(d) Rate Filing: Non-Conforming Agreement Filing (Atmos) to be effective 11/1/2017.

Filed Date: 9/27/17.

Accession Number: 20170927-5117.

Comments Due: 5 p.m. ET 10/10/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 28, 2017.
Nathaniel J. Davis, Sr.,
Deputy Secretary.

[FR Doc. 2017-21208 Filed 10-2-17; 8:45 am]

BILLING CODE 6717-01-P